DEPARTMENT OF JUSTICE

Antitrust Division

Notice Pursuant to the National Cooperative Research and Production Act of 1993—Digital Manufacturing Design Innovation Institute

Notice is hereby given that, on December 18, 2020, pursuant to Section 6(a) of the National Cooperative Research and Production Act of 1993, 15 U.S.C. 4301 et seq. (“the Act”), Digital Manufacturing Design Innovation Institute (“DMDII”) has filed written notifications simultaneously with the Attorney General and the Federal Trade Commission disclosing changes in its membership. The notifications were filed for the purpose of extending the Act's provisions limiting the recovery of antitrust plaintiffs to actual damages under specified circumstances. Specifically, Ubisense, Denver, CO; EmpowerXR, Chicago, IL; ProshopERP, Bellingham, WA; Supply Chain Risk Management Consortium (SCRMC), Flemington, NJ; Formic Technologies, Chicago, IL; Supply Chain Operations Preparedness Education, Fairfax, VA; Y-12, Oak Ridge, TN; Uncomn, Scott AFB, IL; University of Houston, Houston, TX; Illinois Institute of Technology (IIT), Chicago, IL; Innovation Quality Business Solutions, Bethlehem, PA; Frontier Aerospace, Simi Valley, CA; ActivTech, Dunwoody, GA; SquareOne PD, Chicago, IL; Atomus Printing, Los Angeles, CA; CANA LLC, Gainsville, VA; Imprimis, Colorado Springs, CO; Rutgers, New Brunswick, NJ; and Simio, Sewickley, PA have been added as parties to this venture.

No other changes have been made in either the membership or planned activity of the group research project. Membership in this group research project remains open, and DMDII intends to file additional written notifications disclosing all changes in membership.

On January 5, 2016, DMDII filed its original notification pursuant to Section 6(a) of the Act. The Department of Justice published a notice in the Federal Register pursuant to Section 6(b) of the Act on March 9, 2016 (81 FR 12525).

The last notification was filed with the Department on September 30, 2020. A notice was published in the Federal Register pursuant to Section 6(b) of the Act on October 15, 2020 (85 FR 65425).

Suzanne Morris,
Chief, Premerger and Division Statistics, Antitrust Division.

[FR Doc. 2021-00143 Filed 1-7-21; 8:45 am]

BILLING CODE P